DEPARTMENT OF COMMERCE

International Trade Administration

[A-475-703]

Granular Polytetrafluoroethylene Resin from Italy: Notice of Rescission of Antidumping Duty Administrative Review

AGENCY: Import Administration, International Trade Administration, Department of Commerce.

ACTION: Notice of Rescission of Antidumping Duty Administrative Review.

EFFECTIVE DATE: December 13, 2002.

SUMMARY: On September 25, 2002, the Department of Commerce (the Department) published in the Federal Register (67 FR 60211) a notice announcing the initiation of an administrative review of the antidumping duty order on granular polytetrafluoroethylene resin from Italy, covering the period August 1, 2001, through July 31, 2002. The review was requested by both E.I. DuPont de Nemours & Company (DuPont), a U.S. producer of the domestic like product and Ausimont SPA and Ausimont USA, Inc., collectively Ausimont, an Italian producer of the subject merchandise under review and its United States subsidiary. We are now rescinding this review as a result of both DuPont's and Ausimont's withdrawal of their requests for an administrative review.

FOR FURTHER INFORMATION CONTACT: Vicki Schepker or Keith Nickerson, at (202) 482-1756 or (202) 482-3813, respectively, AD/CVD Enforcement Office V, Group II, Import Administration, International Trade Administration, U.S. Department of Commerce, 14th Street & Constitution Avenue, NW, Washington, DC 20230.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations are to 19 CFR Part 351 (April 2002).

Background

In accordance with 19 CFR 351.213(b), on August 27 and August 30, 2002, respectively DuPont and Ausimont requested an administrative review of the antidumping duty order on granular polytetrafluoroethylene resin from Italy. On September 25, 2002, in accordance with 19 CFR 351.221(c)(1)(i), we initiated an administrative review of this order for the period August 1, 2001, through July 31, 2002 (67 FR 60211). DuPont and Ausimont withdrew their requests for this review on October 18 and 28, 2002, respectively.

Rescission of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. Both DuPont and Ausimont withdrew their requests within the 90-day period. Accordingly, we are rescinding this review. The Department will issue appropriate assessment instructions to the U.S. Customs Service within 15 days of publication of this notice. This notice is issued and published in accordance with section 751 of the Act (19 U.S.C. 1675) and 19 CFR 351.213(d)(4).

Dated: December 9, 2002.
Bernard T. Carreau,
Deputy Assistant Secretary, Group II Import Administration

[FR Doc. 02-31480 Filed 12-12-02; 8:45 am]

BILLING CODE 3510-DS-S